DEPARTMENT OF AGRICULTURE

Animal and Plant Health Inspection Service

[Docket No. APHIS-2007-0106]

Secretary's Advisory Committee on Foreign Animal and Poultry Diseases; Meeting

AGENCY: Animal and Plant Health Inspection Service, USDA.

ACTION: Notice of meeting.

SUMMARY: Pursuant to the Federal Advisory Committee Act (5 U.S.C. App. II), we are giving notice of a meeting of the Secretary's Advisory Committee on Foreign Animal and Poultry Diseases.

DATES: A session open to the public will be held on August 21, 2007, from 8 a.m. to 5 p.m.

ADDRESSES: The meeting will be held in the Jamie L. Whitten Federal Building, 12th Street and Jefferson Drive, SW., Washington, DC, in room 107A.

FOR FURTHER INFORMATION CONTACT: Dr. Bethany O'Brien, Acting Director Interagency Coordination, National Center for Animal Health Emergency Management, VS, APHIS, 4700 River Road, Unit 41, Riverdale, MD 20737; (301) 734-0825.

SUPPLEMENTARY INFORMATION: The Secretary's Advisory Committee on Foreign Animal and Poultry Diseases (the Committee) advises the Secretary of Agriculture on actions necessary to prevent the introduction of foreign diseases of livestock and poultry into the United States. In addition, the Committee advises the Secretary on contingency planning and on maintaining a state of preparedness to deal with these diseases, if introduced.

The meeting will focus on the U.S. animal health emergency management system and on the foreign animal disease situation worldwide and its relevance to the United States. The session will be open to the public. However, due to time constraints, the public will not be allowed to participate in the Committee's discussions.

You may obtain an agenda for the meeting by contacting Dr. Bethany O'Brien at the address listed under FOR FURTHER INFORMATION CONTACT. Written statements on meeting topics may be filed with the Committee before or after the meeting by sending them to the person listed under FOR FURTHER INFORMATION CONTACT. Written statements may also be filed at the meeting. Please refer to Docket No. APHIS-2007-0106 when submitting your statements.

Upon entering the Whitten Building, visitors should inform security personnel that they are attending the Advisory Committee meeting on Foreign Animal and Poultry Diseases. Photo identification is required. Visitor badges must be worn at all times while inside the building.

Done in Washington, DC, this 27th day of July 2007.
Kevin Shea,
Acting Administrator, Animal and Plant Health Inspection Service.

[FR Doc. E7-14987 Filed 8-1-07; 8:45 am]

BILLING CODE 3410-34-P